ENVIRONMENTAL PROTECTION AGENCY

[ER-FRL-6625-4]

Environmental Impact Statements; Notice of Availability

Responsible Agency: Office of Federal Activities, General Information (202)564-7167 www.epa.gov/oeca/ofa.

Weekly receipt of Environmental Impact Statements

Filed December 31, 2001 Through January 04, 2002

Pursuant to 40 CFR 1506.9.

EIS No. 020000, FINAL EIS, AFS, ID, MT, Lemhi Pass National Historic Landmark Management Plan, Implementation, Beaverhead-Deerlodge National Forest, Beaverhead County, MT and Salmon-Challis National Forest, Lemhi County, ID, Wait Period Ends: February 11, 2002, Contact: Katie R. Bump (406) 683-3955.

EIS No. 020001, FINAL EIS, BLM, NV, Phoenix Project, Current Mining Operations and Processing Activities Expansion, Battle Mountain, Plan of Operations Approval, Lander County, NV, Wait Period Ends: February 11, 2002, Contact: Pam Jarnecke (775) 635-4144. This document is available on the Internet at: http://www.nv.blm.gov/battlemountain.

EIS No. 020002, DRAFT EIS, FHW, TN, Route 475 (Knoxville Beltway) Construction, I-75 south of Knoxville to I-75 north of Knoxville, Funding, US Army COE Section 10 and 404 Permits and NPDES Permit Issuance, Loudon, Roane, Knox and Anderson Counties, TN , Comment Period Ends: February 25, 2002, Contact: Charles S. Boyd (615) 781-5770.

EIS No. 020003, FINAL EIS, FHW, MO, US 65 Improvements, County Road 65-122 South to Route EE Intersection south of Buffalo, Funding and US Army COE Section 404 Permit Issuance, Dallas County, MO , Wait Period Ends: February 11, 2002, Contact: Don Neumann (573) 636-7104.

EIS No. 020004, DRAFT SUPPLEMENT, NOA, Pelagic Sargassum Habitat Fishery Management Plan, Implementation, Updated Information concerning the Public's Opportunity to Comment on Proposed Actions South Atlantic Region, Comment Period Ends: February 25, 2002, Contact: Joseph E. Powers (727) 570-5301.

EIS No. 020005, FINAL EIS, AFS, ID, Little Weiser Landscape Vegetation Management Project, Implementation, Council Ranger District, Payette National Forest, Adams County, ID, Wait Period Ends: February 11, 2002, Contact: Faye Krueger (208) 253-0100. This document is available on the Internet at: http://fs.fed.us/r4/payette/main.html.

EIS No. 020006, DRAFT SUPPLEMENT, NOA, CA, San Francisco Bay National Estuarine Research Reserve, Proposed Designation of Three Sites: China, Camp State Park, Brown's Island Regional Parks District and Rush Ranch Open Space Preserve, Additional Information regarding Commercial Navigation and Socioeconomic Issues, Contra Costa, Marin, and Solano Counties, CA, Comment Period Ends: February 25, 2002, Contact: Nina Garfield (301) 713-3132.

EIS No. 020007, DRAFT EIS, BOR, AZ, NV, CA, Implementation Agreement (IA), Inadvertent Overrun and Payback Policy (IOP), and Related Federal Actions, Implementation, Quantification Settlement Agreement (QSA), Lower Colorado River, In the States of AZ, CA and NV, Comment Period Ends: March 12, 2002, Contact: Bruce D. Ellis (602) 216-3854.

EIS No. 020008, FINAL EIS, FRC, AZ, CA, North Baja Pipeline Project, Docket Nos. CP01-22-000 and CP01-23-000, Construction and Operation A New Natural Gas Transmission Pipeline, Land Use Plan Amendment, Right-of-Way Grant, NPDES, COE Section 10 and 404 Permits, La Praz and Yuma Counties, AZ and Imperial, Kern, Riverside, Palo Verde, San Bernardino and San Diego Counties, Wait Period Ends: February 11, 2002, Contact: Lynda Kastoll (760) 337-4421.

EIS No. 020009, FINAL EIS, AFS, MT, Threemile Stewardship Project, Proposed Short-Term and Long-Term Vegetation and Road Management Activities, Ashland Ranger District, Custer National Forest, Powder and Rosebud Counties, MT, Wait Period Ends: February 11, 2002, Contact: Nancy T. Curriden (406) 657-6200.

Amended Notices

EIS No. 010531, DRAFT EIS, UAF, CA, EL Rancho Road Bridge Project, To Provide a Flood-Free Crossing at San Antonia Creek to Access North Vandenberg Air Force Base, Santa Barbara County, CA , Comment Period Ends: February 25, 2002, Contact: Jack Bush (703) 604-0553. Revision of FR Notice Published on 12/21/2001: CEQ Comment Period Ending 02/04/2002 has been extended to 02/25/2002.

Dated: January 8, 2002.
Joseph C. Montgomery,
Director, NEPA Compliance Division, Office of Federal Activities.

[FR Doc. 02-721 Filed 1-10-02; 8:45 am]

BILLING CODE 6560-50-U